Title 3—

The President

Memorandum of December 22, 2010

The Richard C. Holbrooke Award for Diplomacy

Memorandum for the Secretary of State

To honor the legacy of one of America's greatest diplomats and to reaffirm our commitment to diplomacy, I hereby direct you to establish the Richard C. Holbrooke Award for Diplomacy, to be awarded annually. You are authorized to take all necessary steps to establish an appropriate award program under the auspices of your department to recognize distinguished Americans who have made especially meritorious contributions to diplomacy.

Sixty days prior to presenting the award, you shall present to me a list of nominees, from which I will select up to five individuals or groups of individuals to receive this award. In preparing your list of nominees, you may consider the recommendations of appropriate individuals and groups, coordinate your nominations in consultation with other executive agencies as appropriate, and may include recommendations for posthumous awards.

You are authorized and directed to publish this memorandum in the Federal Register.

THE WHITE HOUSE,

Washington, December 22, 2010 [Editorial Note: This document was received by the Office of the Federal Register on December 19, 2012.]

[FR Doc. 2012-30957

Filed 12-20-12; 8:45 am]

Billing code 4710-10-P